NATIONAL AERONAUTICS AND SPACE ADMINISTRATION

[Notice: 26-002]

Centennial Challenges Deep Space Food Challenge: Mars to Table Registration

AGENCY: National Aeronautics and Space Administration (NASA).

ACTION: Notice.

SUMMARY: Deep Space Food Challenge: Mars to Table is open, and teams that wish to compete may now register. NASA initiated Centennial Challenges in 2005 to create public prize competitions that stimulate revolutionary research, technology development, and prototype demonstrations. These challenges strive to be audacious and inspirational with a focus on long-range NASA goals while addressing complex mission needs. Challenges also encourage hands-on, grassroots approaches to identifying and cultivating communities of innovators, including small businesses, student groups, and individuals. Centennial Challenges are part of NASA's Prizes, Challenges, and Crowdsourcing program withing the agency's Space Technology Mission Directorate. NASA's Deep Space Food Challenge: Mars to Table is a prize competition with a total prize purse of $750,000 USD, (seven hundred and fifty thousand United States dollars) to be awarded to competitor teams that develop a complete space food system for a planetary surface that integrates a variety of food sources and associated technologies, and that meets 100% of the crew's variable nutritional needs within the constraints of a Martian habitat.

DATES: Registration opens January 12, 2026, and will remain open until July 31, 2026. No further requests for registration will be accepted after this date. Other important dates can be found at the challenge website: go.nasa.gov/marstotable.

ADDRESSES: Deep Space Food Challenge: Mars to Table will be conducted virtually. Information about any possible in-person awards ceremonies will be posted on the Challenge website.

FOR FURTHER INFORMATION CONTACT: To register or for additional information regarding NASA's Deep Space Food Challenge: Mars to Table, please visit: go.nasa.gov/marstotable.

Questions and comments regarding the Challenge should be addressed to Jennifer Edmunson, 256-544-4071, Centennial Challenges Acting Program Manager, NASA Marshall Space Flight Center Huntsville, AL 35812. Email address: hq-stmd-centennialchallenges@mail.nasa.gov. For general information on NASA prize competitions, challenges, and crowdsourcing opportunities, please visit: www.nasa.gov/get-involved.

SUPPLEMENTARY INFORMATION:

Summary

Deep Space Food Challenge: Mars to Table seeks to incentivize the development of a complete space food system for a planetary surface that integrates a variety of food sources and associated technologies, and that meets 100% of the crew's variable nutritional needs within the space environment. This challenge is a public prize competition, open to the eligible global public, with a $750,000 USD total prize purse. This challenge will identify innovative approaches to create a full food system that can provide for a surface expedition team of up to 15 crew members, support sustained operations for a five-year surface mission, fully integrate the Environmental Control and Life Support System (ECLSS) for closed-loop or near closed-loop resource utilization, and utilize pre-packaged foods and/or bulk ingredients for less than half of the overall system.

The challenge asks teams to outfit a habitat space with their proposed food system and communicate their solutions through a detailed framework including a daily concept of operations and meal plan, a blueprint/layout of the designed space, and a functional walkthrough video. The challenge may allow for simulation testing, where teams can validate their systems for further technology advancement. Subject matter experts will offer wisdom and support through webinars and office hours.

I. Prize Amounts

The Challenge will offer an aggregate prize purse of up to $750,000 for U.S. Teams. U.S. Teams must meet the eligibility requirements in order to receive a prize from NASA.

After the Judging Panel makes recommendations, up to one (1) U.S. Team will be named as the overall winner of the Challenge and be awarded up to $300,000. Up to two (2) additional U.S. Teams will be named as second and third place winners and awarded up to $200,000 and $100,000, respectively. Up to three (3) $50,000 categorical awards may be awarded for recognizing U.S. Teams who make exemplary advancements or innovations in a given focus area, including but not limited to: Crew Experience, Transformational Innovation, Terrestrial Potential, etc.

International Teams must meet the eligibility requirements in order to participate in the Challenge. International Teams are not eligible to be awarded prize money. After the Judging Panel deliberates in August 2026, up to three (3) International Teams may be named the International Winner and International Runners-Up of the Challenge.

II. Eligibility To Participate and Win Prize Money

In order to participate in the Challenge, each individual, whether acting alone or as part of a Competitor Team must identify their nationality.

• No individual competitor shall be a citizen of a country on the NASA Export Control Program list of Designated Countries List Category II: Countries determined by the Department of State to support terrorism. The current list of designated countries can be found at http://oiir.hq.nasa.gov/nasaecp. Please check the link for the latest updates. This includes individuals with dual citizenship unless they are a U.S. citizen or a lawful permanent U.S. resident (green card holder).

• While China is not a Category II designated country, pursuant to Public Law 116-6, Section 530, NASA is prohibited from participating, collaborating, or coordinating bilaterally in any way with China or any Chineseowned entity. Team members who are citizens of China but not affiliated with a Chinese entity may be permitted to participate on a Team.

• Subject to the conditions set forth herein, foreign nationals and foreign national Teams can participate in the Challenge. However, they are not eligible for a cash prize, and must acknowledge acceptance of this by signing and submitting a Foreign Participant Acknowledgement Form.

• A competitor Team-designated lead shall be responsible for both compliance with the rules (including prize eligibility rules) and the actions of all members of the Team.

In order to be eligible to win a prize from NASA:

1. Individuals must be U.S. citizens OR permanent residents of the United States, AND over the age of 18.

2. Organizations must be an entity incorporated in AND maintaining a primary place of business in the United States.

3. Teams must be composed of otherwise eligible individuals or organizations AND led by an otherwise eligible individual or organization.

4. Team Leader must be a U.S. citizen or permanent resident.

A Team may include foreign nationals and be eligible to win prize money as long as the foreign national signs and delivers a disclosure wherein they disclose his/her citizenship and acknowledge that he/she is not eligible to win a prize from NASA, AND the foreign national is:

1. An employee of an otherwise eligible U.S. entity participating in the Challenge,

2. An owner of such entity, so long as foreign citizens own less than 50% of the interests in the entity,

3. A contractor under written contract to such entity, OR

4. A full-time student who, during the time of the Challenge, (1) is enrolled in an accredited institution of higher learning, (2) has a valid student visa and (3) is otherwise in compliance with all local, state, and U.S. Government laws and regulations regarding the sale and export of technology.

Teams selected for an award will be required to provide proof of citizenship/permanent residency, proof of primary place of business, proof of incorporation, and/or proof of student visa. Proof must be provided within 3 business days to be eligible for an award. A Team's failure to comply with any aspect of the eligibility requirements shall result in the Team being disqualified from winning a prize from NASA.

Interested teams should refer to the official Challenge website (www.deepspacefood.org/marstotable) for full details on eligibility requirements and registration.

III. Official Rules

The complete rules for Deep Space Food Challenge: Mars to Table, can be found at: www.deepspacefood.org/marstotable.

Nanette Smith,
Team Lead, NASA Directives and Regulations.

[FR Doc. 2026-00450 Filed 1-12-26; 8:45 am]

BILLING CODE 7510-13-P